DEPARTMENT OF TRANSPORTATION

Office of the Secretary

Notice of Applications for Certificates of Public Convenience and Necessity and Foreign Air Carrier Permits Filed Under Subpart Q During the Week Ending February 4, 2000

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-6841.

Date Filed: January 31, 2000.

Due Date for Answers, Conforming Applications, or Motions to Modify Scope: February 28, 2000.

Description: Application of Continental Airlines, Inc. pursuant to 49 U.S.C. 41108 and 41102 and subpart Q, applies for a certificate of public convenience and necessity of indefinite duration authorizing Continental to provide scheduled foreign air transportation of persons, property and mail between any point or points in the U.S. and any point or points in Costa Rica, El Salvador, Guatemala, Honduras, Nicaragua and Panama and any point or points beyond those countries as well as between any point or points in Costa Rica, El Salvador, Guatemala, Honduras, Nicaragua and Panama on flights serving the U.S. and between any point or points in the U.S. and Belize City, Belize.

Dorothy W. Walker,
Federal Register Liaison.

[FR Doc. 00-3381 Filed 2-11-00; 8:45 am]

BILLING CODE 4910-62-P